DEPARTMENT OF THE INTERIOR

National Park Service

[NPS-WASO-NAGPRA-NPS0039956; PPWOCRADN0-PCU00RP14.R50000]

Notice of Inventory Completion: University of California, Riverside, Riverside, CA

AGENCY: National Park Service, Interior.

ACTION: Notice.

SUMMARY: In accordance with the Native American Graves Protection and Repatriation Act (NAGPRA), the University of California, Riverside has completed an inventory of human remains and associated funerary objects and has determined that there is a cultural affiliation between the human remains and associated funerary objects and Indian Tribes or Native Hawaiian organizations in this notice.

DATES: Repatriation of the human remains and associated funerary objects in this notice may occur on or after May 19, 2025.

ADDRESSES: Megan Murphy, University of California, Riverside, 900 University Avenue, Riverside, CA 92517-5900, telephone (951) 827-6349, email megan.murphy@ucr.edu.

SUPPLEMENTARY INFORMATION: This notice is published as part of the National Park Service's administrative responsibilities under NAGPRA. The determinations in this notice are the sole responsibility of the University of California, Riverside, and additional information on the determinations in this notice, including the results of consultation, can be found in the inventory or related records. The National Park Service is not responsible for the determinations in this notice.

Abstract of Information Available

Based on the information available, human remains representing, at least, one individual has been reasonably identified. The seven associated funerary objects are one lot of ceramic sherds, one lot of ceramic objects, one lot of glass, one lot of lithics, one lot of metal objects, one lot of fire-altered rock, and one lot of faunal bone. In 1971, archaeologists at the University of California, Riverside Archaeological Research Unit (UCRARU) learned from Gerry Smith of the San Bernardino County Museum that archaeological site CA-RIV-399 (the Painted Rock Site) at the base of the Lakeview Mountains in Riverside County was being disturbed by the construction of a canal. Tom King, Chief Archaeologist for the UCRARU, surveyed the site and noted artifacts on the surface including quartz flakes and clay pipe fragments. To prevent further damage to the site, archaeologists from the UCRARU were given permission by property owners to run a student archaeological field school in the summer of 1971. The site was described by archaeologists as an extensive occupation area with milling features and rock art. Students excavated twelve 1 x 1-meter units and uncovered approximately 135 items including sherds, lithics, fire-altered rock, and other archaeological materials. The objects were housed at UCR under accession number 24. In 2024, at the request of tribal partners, an osteologist reviewed a burnt bone fragment in the collection and concluded that it represented a human infant cranial bone. In consultation with tribal partners, the objects in the collection were also reviewed and identified as associated funerary objects based on expert tribal knowledge.

The Painted Rocks Site is an area well-known to the local Cahuilla and Luiseno Tribes as a place where their ancestors lived; it remains a place of great importance for them in modern times.

Cultural Affiliation

Based on the information available and the results of consultation, cultural affiliation is clearly identified by the information available about the human remains and associated funerary objects described in this notice.

Determinations

The University of California, Riverside has determined that:

• The human remains described in this notice represent the physical remains one individual of Native American ancestry.

• The seven objects described in this notice are reasonably believed to have been placed intentionally with or near individual human remains at the time of death or later as part of the death rite or ceremony.

• There is a reasonable connection between the human remains and associated funerary objects described in this notice and the Morongo Band of Mission Indians, California and the Soboba Band of Luiseno Indians, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 19, 2025. If competing requests for repatriation are received, the University of California, Riverside must determine the most appropriate requestor prior to repatriation. Requests for joint repatriation of the human remains and associated funerary objects are considered a single request and not competing requests. The University of California, Riverside is responsible for sending a copy of this notice to the Indian Tribes and Native Hawaiian organizations identified in this notice.

Authority: Native American Graves Protection and Repatriation Act, 25 U.S.C. 3003, and the implementing regulations, 43 CFR 10.10.

Dated: April 8, 2025.
Melanie O'Brien,
Manager, National NAGPRA Program.

[FR Doc. 2025-06646 Filed 4-17-25; 8:45 am]

BILLING CODE 4312-52-P